DEPARTMENT OF HEALTH AND HUMAN SERVICES

National Institutes of Health

National Cancer Institute; Notice of Meeting

Pursuant to section 10(a) of the Federal Advisory Committee Act, as amended (5 U.S.C. App.), notice is hereby given of a meeting of the National Cancer Institute Council of Research Advocates.

The meeting will be open to the public, with attendance limited to space available. Individuals who plan to attend and need special assistance, such as sign language interpretation or other reasonable accommodations, should notify the Contact Person listed below in advance of the meeting.

Name of Committee: National Cancer Institute Council of Research Advocates.

Date: March 4, 2015.

Time: 1:00 p.m. to 3:00 p.m.

Agenda: NCI Update, Bypass Budget Discussion, Genomic Data Commons Project, NCRA Working Group Updates.

Place: National Institutes of Health, 31 Center Drive, Building 31, Room 11A01, Bethesda, MD 20892.

Go To: https://cbiit.webex.com/cbiit/j.php?MTID=m6a771d2a3371a0ec88776ece383de4dc

Meeting Password ——NCINCRa67!

Meeting Number ——734 746 765

AUDIO CONNECTION

1. Provide your number when you join the meeting to receive a call back. Alternatively, you can call one of the following numbers: Dial In Number: 1-240-276-6338

2. Follow the instructions that you hear on the phone. Your Cisco Unified Meeting Place meeting ID: 734 746 765

Contact Person: Kelley Landy, NCI Office of Advocacy Relations, National Cancer Institute, 31 Center Drive, Building 31, Room 10A28, Bethesda, MD 20892, 301-496-9723, Kelley.landy@nih.gov.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Institute's/Center's home page: deainfo.nci.nih.gov/advisory/ncra/ncra.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: January 26, 2015.
Melanie J. Gray,
Program Analyst, Office of Federal Advisory Committee Policy.

[FR Doc. 2015-01720 Filed 1-29-15; 8:45 am]

BILLING CODE 4140-01-P